DEPARTMENT OF HOMELAND SECURITY

Coast Guard

[USCG-2006-23670]

Chemical Transportation Advisory Committee

AGENCY: Coast Guard, DHS.

ACTION: Notice of meeting.

SUMMARY: The Chemical Transportation Advisory Committee (CTAC) Subcommittees on Outreach and Hazardous Cargo Transportation Security (HCTS) will meet to discuss various issues relating to CTAC and the marine transportation of hazardous materials in bulk. The CTAC Working Groups on Barge Emissions and the International Convention for the Prevention of Pollution from Ships, 1973 (MARPOL) Annex II will also meet to discuss environmental issues and future changes to regulations. These meetings will be open to the public.

DATES: The Barge Emissions Working Group will meet on Tuesday, February 7, 2006, from 8:30 a.m. to 2 p.m. The Outreach Subcommittee will meet on Tuesday, February 7, 2006, from 2 p.m. to 4 p.m. The MARPOL Annex II Working Group will meet on Wednesday, February 8, 2006, from 8:30 a.m. to 4 p.m. The HCTS Subcommittee will meet on Thursday, February 9, 2006, from 8:30 a.m. to 4 p.m. These meetings may close early if all business is finished. Written material and requests to make oral presentations should reach the Coast Guard on or before February 2, 2006. Requests to have a copy of your material distributed to each member of the Committee should reach the Coast Guard on or before February 2, 2006.

ADDRESSES: All meetings will be held at American Commercial Barge Lines LLC, 1701 E. Market Street, Jeffersonville, IN 47131. Send written material and requests to make oral presentations to Commander Robert J. Hennessy, Executive Director of CTAC, Commandant (G-PSO-3), U.S. Coast Guard Headquarters, 2100 Second Street, SW., Washington, DC 20593-0001 or E-mail: CTAC@comdt.uscg.mil. This notice is available on the Internet at http://dms.dot.gov.

FOR FURTHER INFORMATION CONTACT: Commander Robert J. Hennessy, Executive Director of CTAC, or Ms. Sara Ju, Assistant to the Executive Director, telephone 202-267-1217, fax 202-267-4570.

SUPPLEMENTARY INFORMATION: Notice of these meetings is given under the Federal Advisory Committee Act, 5 U.S.C. App. 2.

Agenda of Barge Emissions Working Group Meeting on Tuesday, February 7, 2006

(1) Introduce Working Group members and attendees.

(2) Review best practices and develop implementation strategy to reduce barge emissions.

Agenda of Outreach Subcommittee Meeting on Tuesday, February 7, 2006

(1) Introduce Subcommittee members and attendees.

(2) Review and edit CTAC accomplishments list.

(3) Develop outline for future CTAC presentation.

Agenda of the MARPOL Annex II Working Group Wednesday, February 8, 2006

(1) Introduce Working Group members and attendees.

(2) Review and edit draft Coast Guard Navigation and Vessel Inspection Circular for the U.S. implementation of revisions to MARPOL Annex II and the International Code for the Construction and Equipment of Ships Carrying Dangerous Chemicals in Bulk (IBC Code).

Agenda of HCTS Subcommittee Meeting on Thursday, February 9, 2006

(1) Introduce Subcommittee members and attendees.

(2) Discuss proposed changes to the Certain Dangerous Cargo and Advanced Notice of Arrival regulations.

(3) Discuss prioritized work list for the Subcommittee.

(4) Discuss the future of the Subcommittee.

Procedural

These meetings are open to the public. Please note that the meetings may close early if all business is finished. At the discretion of the Chair, members of the public may make oral presentations during the meetings generally limited to 5 minutes. If you would like to make an oral presentation at a meeting, please notify the Executive Director and submit written material on or before February 2, 2006. If you would like a copy of your material distributed to each member of the Committee in advance of a meeting, please submit 25 copies to the Executive Director (see ADDRESSES) no later than February 2, 2006.

Information on Services for Individuals with Disabilities

For information on facilities or services for individuals with disabilities, or to request special assistance at the meeting, telephone the Executive Director as soon as possible.

Dated: January 20, 2006.
R.J. Petow,
Acting Director of Prevention Standards.

[FR Doc. E6-960 Filed 1-25-06; 8:45 am]

BILLING CODE 4910-15-P